DEPARTMENT OF HEALTH AND HUMAN SERVICES

Centers for Disease Control and Prevention

[60Day-05AO]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-371-5976 or send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Health Communication Planning, Implementation, and Evaluation for People with Disabilities—New—National Center on Birth Defects and Developmental Disabilities (NCBDDD), Centers for Disease Control and Prevention (CDC).

Background and Brief Description

The National Center on Birth Defects and Developmental Disabilities (NCBDDD) at CDC promotes the health of babies, children, and adults with disabilities. As part of these efforts the Center is actively involved in improving the health and wellness of people with disabilities. Of particular interest is how health information is communicated to people with disabilities. This project involves the conduct of an e-mail survey for an initiative evaluating the effectiveness of health communication materials and strategies developed for people with disabilities by North Carolina, New Mexico, and New York with the support of health promotion grants from CDC. The survey data will be analyzed to evaluate awareness of the state-developed materials among health care providers, human services providers and consumer advocates using these materials, their impressions of and satisfaction with the materials, the impact of the materials, and suggestions for improvement. Data will be collected using an on-line self-reporting survey distributed via e-mail and administered by linking to a web-based questionnaire. The results will be used to develop a training handbook to assist state agencies and public health officials in planning, developing, and implementing health communication materials for people with disabilities. There are no costs to respondents except their time to participate in the survey.

Annualized Burden Table:

Survey | Number of respondents | Number of responses per respondent | Average burden per response (in hours) | Total burden hours
Review E-mailed cover letter | 150 | 1 | 5/60 | 12.5
Electronic | 150 | 1 | 5/60 | 12.5
Web-based survey | 150 | 1 | 8/60 | 20
Total | 150 |  |  | 45

Dated: December 3, 2004.
Alvin Hall,
Director, Management Analysis and Services Office, Centers for Disease Control and Prevention.

[FR Doc. 04-27185 Filed 12-10-04; 8:45 am]

BILLING CODE 4163-18-P